DEPARTMENT OF COMMERCE

National Oceanic and Atmospheric Administration

[I.D. 100802E]

Pacific Fishery Management Council; Public Meeting

AGENCY: National Marine Fisheries Service (NMFS), National

Oceanic and Atmospheric Administration (NOAA), Commerce.

ACTION: Notice of public meetings.

SUMMARY: The Pacific Fishery Management Council (Council) and its advisory bodies will hold public meetings.

DATES: The Council and its advisory bodies will meet October 28, 2002 through November 1, 2002. The Council session will begin on Monday, October 28 at 3:30 p.m., reconvening each day through Friday. All meetings are open to the public, except a closed session will be held at 3:30 p.m. on Monday, October 28 to address litigation and personnel matters. The Council will meet as late as necessary each day to complete its scheduled business.

ADDRESSES: The meetings will be held at the Crowne Plaza Hotel, 1221 Chess Drive, Foster City, CA 94404; telephone: 650-570-5700.

Council address: Pacific Fishery Management Council, 7700 NE Ambassador Place, Suite 200, Portland, OR 97220.

FOR FURTHER INFORMATION CONTACT: Dr. Donald O. McIsaac, Executive Director; telephone: 503-820-2280 or 866-806-7204.

SUPPLEMENTARY INFORMATION: The following items are on the Council agenda, but not necessarily in this order. All items listed are subject to potential Council action.

A. Call to Order

1. Opening Remarks, Introductions

2. Council Member Appointments

3. Roll Call

4. Executive Director's Report

5. Approve Agenda

6. Approve April 2002 Minutes

B. Habitat Issues

Essential Fish Habitat (EFH) Issues

C. Salmon Management

1. NMFS Report on Salmon Management

2. Update of Ongoing Fisheries

3. Salmon Management 2003 Option Hearing Sites and Preseason Schedule

4. Scientific and Statistical Committee (SSC) Methodology Review Report

D. Highly Migratory Species (HMS) Management

1. NMFS Report on HMS Management

2. Adoption of Final HMS Fishery Management Plan (FMP)

E. Pacific Halibut Management

Proposed Changes to the 2003 Catch Sharing Plan and Annual Regulations

F. Coastal Pelagic Species (CPS) Management

1. NMFS Report on CPS Management

2. Pacific Sardine Stock Assessment and Harvest Guideline for 2003

3. Consideration of Long-Term Sardine Harvest Allocation

G. Groundfish Management

4. NMFS Report on Groundfish Management

5. Status of Fisheries and Inseason Adjustments

6. Status of Vessel Monitoring System (VMS) Plans

7. Stock Assessment Review (STAR) Panel Process

8. Amendment 17 - Multi-Year Management

9. Exempted Fishing Permits (EFPs): Update and New Proposals

10. Groundfish FMP Programmatic Environmental Impact Statement (EIS)

11. Groundfish FMP EFH EIS

12. Groundfish Strategic Plan Two-Year Review

13. Further Refinement of Amendment 16 - Rebuilding Plans

14. Planning for Bycatch and B0/Maximum Sustainable Yield Workshops

H. Administrative and Other Matters

1. Legislative Matters

2. Financial Matters

3. Appointments to Advisory Bodies, Standing Committees, and Other Forums

4. Election of Council Chair and Vice Chair

5. Council Staff Work Load Priorities

6. March 2003 Council Meeting Draft Agenda

SCHEDULE OF ANCILLARY MEETINGS

MONDAY, OCTOBER 28, 2002

Council Secretariat 8 a.m.

Highly Migratory Species Plan Development Team 8 a.m.

Scientific and Statistical Committee 8 a.m.

Habitat Committee 10 a.m.

Legislative Committee 10 a.m.

Groundfish Advisory Subpanel 1 p.m.

Groundfish Management Team 1 p.m.

Budget Committee 1 p.m.

TUESDAY, OCTOBER 29, 2002

Council Secretariat 7 a.m.

California State Delegation 7 a.m.

Oregon State Delegation 7 a.m.

Washington State Delegation 7 a.m.

Groundfish Advisory Subpanel 8 a.m.

Groundfish Management Team 8 a.m.

Scientific and Statistical Committee 8 a.m.

STAR Panel Debriefing (GAP/GMT/SSC) 10 a.m.

Enforcement Consultants Immediately following Council Session

WEDNESDAY, OCTOBER 30, 2002

Council Secretariat 7 a.m.

California State Delegation 7 a.m.

Oregon State Delegation 7 a.m.

Washington State Delegation 7 a.m.

Groundfish Advisory Subpanel 8 a.m.

Groundfish Management Team As necessary

Enforcement Consultants As necessary

THURSDAY, OCTOBER 31, 2002

Council Secretariat 7 a.m.

California State Delegation 7 a.m.

Oregon State Delegation 7 a.m.

Washington State Delegation 7 a.m.

Groundfish Advisory Subpanel 8 a.m.- noon

Groundfish Management Team As necessary

Enforcement Consultants As necessary

FRIDAY, NOVEMBER 1, 2002

Council Secretariat 7 a.m.

California State Delegation 7 a.m.

Oregon State Delegation 7 a.m.

Washington State Delegation 7 a.m.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503)820-2280 or (866)806-7204 at least 5 days prior to the meeting date.

Dated: October 9, 2002.
Matteo J. Milazzo,
Acting Director, Office of Sustainable Fisheries, National Marine Fisheries Service.

[FR Doc. 02-26138 Filed 10-11-02; 8:45 am]

BILLING CODE 3510-22-S